DEPARTMENT OF VETERANS AFFAIRS

[OMB Control No. 2900-New (CPEP)]

Agency Information Collection (Compensation and Pension Examination Program (CPEP)) Activities under OMB Review

AGENCY: Veterans Health Administration, Department of Veterans Affairs.

ACTION: Notice.

SUMMARY: In compliance with the Paperwork Reduction Act (PRA) of 1995 (44 U.S.C. 3501-3521), this notice announces that the Veterans Health Administration, Department of Veterans Affairs, will submit the collection of information abstracted below to the Office of Management and Budget (OMB) for review and comment. The PRA submission describes the nature of the information collection and its expected cost and burden and includes the actual data collection instrument.

DATE: Comments must be submitted on or before April 26, 2010.

ADDRESSES: Submit written comments on the collection of information through http://www.Regulations.gov or to VA's OMB Desk Officer, OMB Human Resources and Housing Branch, New Executive Office Building, Room 10235, Washington, DC 20503 (202) 395-7316. Please refer to “OMB Control No. 2900-New (CPEP)” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@mail.va.gov. Please refer to “OMB Control No. 2900-New (CPEP).”

SUPPLEMENTARY INFORMATION: Title: Compensation and Pension Examination Program (CPEP) Veterans Satisfaction Survey, VA Form 10-0480.

Type of Review: New collection.

Abstract: The survey will be used to gather feedback from Veterans regarding their experience at individual CPEP examination sites. VA will use the data collected to determine where and to what extent services are satisfactory or where improvement is needed.

An agency may not conduct or sponsor, and a person is not required to respond to a collection of information unless it displays a currently valid OMB control number. The Federal Register Notice with a 60-day comment period soliciting comments on this collection of information was published on January 15, 2010, at page 2594.

Affected Public: Individuals or households.

Estimated Annual Burden: 153.

Estimated Average Burden per Respondent: 5.7 minutes.

Frequency of Response: On occasion.

Estimated Number of Respondents: 1,614.

Dated: March 22, 2010.
By direction of the Secretary.
Denise McLamb,
Program Analyst, Enterprise Records Service.

[FR Doc. 2010-6846 Filed 3-26-10; 8:45 am]

BILLING CODE 8320-01-P